DEPARTMENT OF THE INTERIOR

Bureau of Land Management

[15X.LLAK941000.L54200000.FR0000.LVDIL15L0520; AA094010]

Notice of Application for a Recordable Disclaimer of Interest for Lands Owned by the Corporation of the Catholic Archbishop of Anchorage, AK

AGENCY: Bureau of Land Management, Interior.

ACTION: Notice.

SUMMARY: The Corporation of the Catholic Archbishop of Anchorage (Archdiocese) has filed an application with the Bureau of Land Management (BLM) for a Recordable Disclaimer of Interest (RDI) from the United States for lands the Archdiocese owns at the confluence of the Tazlina River and Copper River, near the village of Tazlina, Alaska. This notice is intended to notify the public of the Archdiocese's application and its supporting rationale.

DATES: All comments to this action should be received on or before September 8, 2016.

ADDRESSES: Written comments on the Archdiocese's application or the BLM Draft Summary Report for the Corporation of Archbishop of Anchorage, Inc. (Archdiocese of Anchorage) application for RDI must be filed with the RDI Program Manager (AK-942), Division of Lands and Cadastral, BLM Alaska State Office, 222 West Seventh Avenue, #13, Anchorage, AK 99513.

FOR FURTHER INFORMATION CONTACT: Angie Nichols, RDI Program Manager, at 222 West 7th Avenue, #13, Anchorage, AK 99513; 907- 271-3359; or anichols@blm.gov; or visit the BLM RDI Web site at http://www.blm.gov/ak/st/en/prog/rdi.html. Persons who use a telecommunications device for the deaf (TDD) may call the Federal Information Relay System (FIRS) at 1-800-877-8339 to contact the above individual during normal business hours. The FIRS is available 24 hours of a day, seven days a week, to leave a message or question with the above individual. You will receive a reply during normal business hours.

SUPPLEMENTARY INFORMATION: The Archdiocese has filed an application for an RDI pursuant to Section 315 of the Federal Land Policy and Management Act of 1976 (43 U.S.C. 1745), as amended, and the regulations contained in 43 CFR subpart 1864 for the surface estate of the following lands:

Copper River Meridian, Alaska

T. 3 N., R. 1 W.,

Sec. 10, lots 6 and 7, NW¼SW¼, S½SW¼;

Sec. 15, lots 2, 3, 4, 7, and 8, N½NW¼, SE¼NW¼.

The areas described aggregate 461.67 acres. In the application, the Archdiocese asserts that the United States has no interest in the property.

The lands were patented under Private Law 151. Both the law and patent have language stating that the land is for use as a mission school. The Archdiocese believes that the clause for use as a mission school casts a cloud on the title and believes that cloud serves as an impediment to any future use or sale of the land. If the BLM approves the application and issues an RDI, it would confirm that the United States has no valid interest in the subject lands.

By this notice the BLM is informing the public of the Archdiocese's application and its supporting rationale. A final decision on the merits of the Archdiocese's application will not be made before September 8, 2016. During the 90-day period, interested parties may comment on the Archdiocese's application, AA-094010, and supporting evidence. Interested parties may comment during this time on the BLM's Draft Summary Report for the Corporation of Archbishop of Anchorage, Inc. (Archdiocese of Anchorage) Application for Recordable Disclaimer of Interest.

Comments, including names and street addresses, will be available for public review at the Alaska State Office (see ADDRESSES above), during regular business hours, 7:30 a.m. to 4:30 p.m., Monday through Friday, except Federal holidays.

Before including your address, phone number, email address, or other personal identifying information in your comment, you should be aware that your entire comment—including your personal identifying information—may be made publicly available at any time. While you can ask us in your comment to withhold your personal identifying information from public review, we cannot guarantee that we will be able to do so.

If the evidence is sufficient to find a favorable determination and neither the records nor a valid objection disclose a reason not to disclaim, then the application may be approved.

Authority: 43 CFR 1864.

Erika L. Reed,
Acting Deputy State Director, Division of Lands and Cadastral.

[FR Doc. 2016-13763 Filed 6-9-16; 8:45 am]

BILLING CODE 4310-JA-P